DEPARTMENT OF COMMERCE

National Oceanic and Atmospheric Administration

RIN 0648-XT84

Fisheries of the Caribbean, Gulf of Mexico, and South Atlantic; Snapper and Grouper Off the Southern Atlantic States

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from the Gulf and South Atlantic Fisheries Foundation, Inc. If granted, the EFP would authorize the applicants, with certain conditions, to collect and retain limited numbers of specimens that would otherwise be prohibited from possession and retention. This study, to be conducted in the exclusive economic zone (EEZ) of the South Atlantic and Gulf of Mexico waters, is intended to characterize catch and bycatch within the southeastern shrimp fishery.

DATES: Comments must be received no later than 5 p.m., eastern time, on March 8, 2010.

ADDRESSES: You may submit comments on the application by any of the following methods:

• E-mail: Steve.Branstetter@noaa.gov. Include in the subject line of the e-mail comment the following document identifier: “FND_EFP”.

• Mail: Steve Branstetter, Southeast Regional Office, NMFS, 263 13th Avenue South, St. Petersburg, FL 33701.

• Fax: 727-824-5308.

The application and related documents are available for review upon written request to any of the above addresses.

FOR FURTHER INFORMATION CONTACT: Steve Branstetter, 727-824-5305; fax: 727-824-5308; e-mail: Steve.Branstetter@noaa.gov.

SUPPLEMENTARY INFORMATION: The EFP is requested under the authority of the Magnuson-Stevens Fishery Conservation and Management Act (16 U.S.C. 1801 et seq.), and regulations at 50 CFR 600.745(b) concerning exempted fishing.

The described research is part of two Cooperative Agreements (No. NA08NMF4330406 and No. NA09 NMF4540135). The research is intended to involve commercial fishermen in the collection of fundamental fisheries information. Resource collection efforts support the development and evaluation of fisheries management and regulatory options.

The proposed collection for scientific research involves activities otherwise prohibited by regulations at 50 CFR 622, as they affect fish and invertebrates managed by the Gulf of Mexico and South Atlantic Fishery Management Councils (Councils). The EFP covers these Council-managed species that may be taken in association with the commercial shrimp fishery of the southeast United States. This would include reef fish, red drum, coastal migratory pelagics, stone crab, and lobsters in the Gulf of Mexico, and snapper-grouper, coastal migratory pelagics, dolphin and wahoo, and lobsters in the South Atlantic. The EFP exempts personnel from the Gulf and South Atlantic Fisheries Foundation, Inc. (Foundation) from bag limits, size limits, quotas, seasonal restrictions, and gear authorizations, when possessing Council-managed species as part of scientific research activities during the period from March 1, 2010, through July 31, 2011. Specimens would be collected from Federal waters of the South Atlantic and Gulf of Mexico regions. Sampling would occur during normal fishing operations of the commercial penaeid shrimp fishery. Sampling would occur year-round, collecting as many as 500 fish during the course of the sampling. These fish would be retained only in the event of the need for subsequent shore-side identification or as documentation of quality assurance in the data collection process. Data collections for this study would support improved information about the catch, bycatch, discards, and the ability to reduce such bycatch for species taken by the shrimp fishery. These data would provide insight on a stock's resilience to fishing, and would help refine estimates of long-term biological productivity of the stocks. Currently, these data are unavailable, and it is anticipated project results will yield valuable data within this fishery.

NMFS finds this application warrants further consideration. Conditions the agency will impose on this permit, if it is indeed granted, include but are not limited to, a prohibition of conducting research within marine protected areas, marine sanctuaries, or special management zones, without additional authorization. Additionally, NMFS will prohibit the possession of Nassau or goliath grouper, and require any sea turtles taken incidentally during the course of fishing or scientific research activities to be be handled with due care to prevent injury to live specimens, observed for activity, and returned to the water. All Foundation-associated personnel who conduct onboard sampling activities have undergone formal sea turtle handling training through NMFS, and are considered NMFS-designated agents while conducting work under the identified Cooperative Agreements.

A final decision on issuance of the EFP will depend on a NMFS review of public comments received on the application, consultations with the affected states, the Gulf of Mexico and South Atlantic Fishery Management Councils, and the U.S. Coast Guard, and a determination that it is consistent with all applicable laws.

Authority: 16 U.S.C. 1801 et seq.

Dated: February 1, 2010.
Emily H. Menashes,
Acting Director, Office of Sustainable Fisheries, National Marine Fisheries Service.

[FR Doc. 2010-2428 Filed 2-4-10; 8:45 am]

BILLING CODE 3510-22-S